DEPARTMENT OF ENERGY

Federal Energy Regulatory Commission

[Docket No. CP06-382-000]

Northwest Pipeline Corporation; Notice of Request Under Blanket Authorization

June 14, 2006.

Take notice that on June 5, 2006, Northwest Pipeline Corporation (Northwest), 295 Chipeta Way, Salt Lake City, Utah 84158, filed in Docket No. CP06-382-000 a request pursuant to sections 157.205(b) and 157.216(b)(2) of the Commission's Regulations under the Natural Gas Act (18 CFR 157.205 and 157.216) for authorization to abandon, by removal, its Thomas Bullock Tap facilities for deliveries to Intermountain Gas Company in Bannock County, Idaho, under the authorization issued in Docket No. CP82-433-000 pursuant to section 7 of the Natural Gas Act, all as more fully described in the request.

This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or for TTY, contact (202) 502-8659.

Any questions concerning this request may be directed to Gary K. Kotter, Manager, Certificates and Tariffs, Northwest Pipeline Corporation, P.O. Box 58900, Salt Lake City, Utah 84158, at (801) 584-7117.

Northwest states that the Thomas Bullock Tap facilities originally were installed to deliver natural gas to Intermountain for distribution to the Thomas Bullock service station, café and motel in the vicinity of McCammon, Idaho. Northwest indicates that it currently has no contractual obligation to make deliveries at this point, and made its last deliveries to this point on May 9, 2006. Northwest avers that Intermountain has reconfigured its distribution facilities to serve the subject end-users from Northwest's nearby McCammon Meter Station delivery point in order to accommodate landowner plans to develop the land where the Thomas Bullock Tap facilities are located.

Northwest contends that Intermountain, the only customer served by the Thomas Bullock Tap during the past twelve months, has provided its written consent to the abandonment.

Any person or the Commission's Staff may, within 45 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

Comments, protests and interventions may be filed electronically via the Internet in lieu of paper. See, 18 CFR 385.2001(a)(1)(iii) and the instructions on the Commission's Web site under the “e-filing” link. The Commission strongly encourages electronic filings.

Magalie R. Salas,
Secretary.

[FR Doc. E6-9788 Filed 6-20-06; 8:45 am]

BILLING CODE 6717-01-P